DEPARTMENT OF COMMERCE

International Trade Administration

[A-201-828]

Welded Large Diameter Line Pipe From Mexico: Postponement of Preliminary Determination of Antidumping Duty Investigation

AGENCY: Import Administration, International Trade Administration, Department of Commerce.

ACTION: Notice of postponement of preliminary determination of antidumping duty investigation.

EFFECTIVE DATE: May 25, 2001.

FOR FURTHER INFORMATION CONTACT: Rick Johnson at (202) 482-3818; Import Administration, International Trade Administration, U.S. Department of Commerce, 14th Street and Constitution Avenue NW., Washington, DC 20230.

Statutory Time Limits

Section 733(b)(1)(A) of the Tariff Act of 1930, as amended (the Act), requires the Department of Commerce (the Department) to issue the preliminary determination of an antidumping duty investigation within 140 days after the date of initiation. However, if the case is extraordinarily complicated and additional time is necessary to make the preliminary determination, and the parties concerned are cooperating in the investigation, section 733(c)(1)(B) of the Act allows the Department to extend the time limit for the preliminary determination until not later than 190 days after the date of initiation.

Background

On January 30, 2001, the Department initiated the above-referenced investigation. See Notice of Initiation of Antidumping Duty Investigations: Welded Large Diameter Line Pipe from Mexico and Japan, 66 FR 11266 (February 23, 2001). The preliminary determinations are currently due no later than June 19, 2001.

Extension of Preliminary Determination

The Department has now concluded, consistent with section 733(c)(1)(B) of the Act, that this investigation is extraordinarily complicated, and that additional time is necessary to issue the preliminary determination due to the complexity of certain issues raised in these cases, including the complexity of the transactions to be investigated and adjustments to be considered and the novelty of the issues presented. Specifically, the Department must investigate complicated matters of affiliation between the respondent and another producer. Simultaneously, it must analyze and respond to petitioners' recent allegation of sales-below-cost.

Therefore, in light of the fact that the parties to this proceeding have been cooperating, pursuant to section 733(c)(1) of the Act, and that additional time is necessary to make this preliminary determination in accordance with section 733(c)(1)(B)(ii) of the Act, the Department is postponing the deadline for issuing this determination until August 8, 2001.

Dated: June 4, 2001.
Faryar Shirzad,
Assistant Secretary for Import Administration.

[FR Doc. 01-14646 Filed 6-8-01; 8:45 am]

BILLING CODE 3510-DS-P